DEPARTMENT OF THE INTERIOR

Minerals Management Service

Outer Continental Shelf (OCS), Beaufort Sea Oil and Gas Lease Sale 186

AGENCY: Minerals Management Service, Interior.

ACTION: Availability of the Proposed Notice of Sale.

SUMMARY: Alaska OCS, Beaufort Sea; Notice of Availability of the proposed Notice of Sale for proposed Oil and Gas Lease Sale 186 in the Beaufort Sea. This Notice is published pursuant to 30 CFR 256.29(c) as a matter of information to the public.

With regard to oil and gas leasing on the OCS, the Secretary of the Interior, pursuant to section 19 of the OCS Lands Act, provides the affected States the opportunity to review the proposed Notice. The proposed Notice sets forth the proposed terms and conditions of the sale, including minimum bids, royalty rates, and rentals.

The proposed Notice of Sale for Sale 186 and a “Proposed Sale Notice Package” containing information essential to potential bidders may be obtained from the Alaska OCS Region, Information Resource Center, Minerals Management Service, 949 East 36th Avenue, Room 330, Anchorage, Alaska 99508-4302. Telephone: (907) 271-6070 or 1-800-764-2627. Certain documents may be viewed and downloaded from the MMS World Wide Web site at http://www.mms.gov/alaska.

The final Notice of Sale will be published in the Federal Register at least 30 days prior to the date of bid opening. Bid opening is currently scheduled for September 24, 2003.

Dated: February 11, 2003.
Walter D. Cruickshank,
Acting Director, Minerals Management Service.

[FR Doc. 03-4051 Filed 2-19-03; 8:45 am]

BILLING CODE 4310-MR-P